DEPARTMENT OF LABOR

Employment and Training Administration

[TA-W-82,571, TA-W-82,571A, TA-W-82,571B]

Lexisnexis/Matthew Bender, a Reed Elsevier, Inc. Subsidiary, Not Including the Customer Service and Fulfillment Departments Albany, NY; Lexisnexis, Customer Support and Fulfillment Departments, Miamisburg, OH; Lexisnexis/Matthew Bender, a Reed Eslevier, Inc. Subsidiary, Customer Support and Fulfillment Department, Albany, NY; Amended Certification Regarding Eligibility To Apply for Worker Adjustment Assistance

In accordance with Section 223 of the Trade Act of 1974, as amended (“Act”), 19 U.S.C. 2273, the Department of Labor issued a Certification of Eligibility to Apply for Worker Adjustment Assistance on May 8, 2013, applicable to workers of LexisNexis/Matthew Bender, a Reed Elsevier, Inc. Subsidiary, not including the Customer Service and Fulfillment Departments Albany, New York. The Department's notice of determination was published in the Federal Register on May 30, 2013 (78 FR 32464).

At the request of State Workforce Office, the Department reviewed the certification for workers of the subject firm. The workers are engaged in activities related to the supply of online legal research tools and solutions services.

The investigation revealed that worker separations in the Customer Service and Fulfillment Departments in Albany, New York are attributable to an acquisition of services from a foreign country. Workers in those departments had been covered under a previous certification (TA-W-81,638A) that expired on June 1, 2014.

The amended notice applicable to TA-W-82,571 is hereby issued as follows:

All workers of LexisNexis/Matthew Bender, A Reed Elsevier, Inc. Subsidiary, not including the Customer Service and Fulfillment Departments, Albany, New York (TA-W-82,571) and LexisNexis, Customer Support and Fulfillment Departments, Miamisburg, Ohio (TA-W-82,571A) who became totally or partially separated from employment on or after March 18, 2013 through May 8, 2015, and all workers in the group threatened with total or partial separation from employment on the date of certification through two years from the date of certification, are eligible to apply for adjustment assistance under Chapter 2 of Title II of the Trade Act of 1974, as amended, and

All workers of LexisNexis, Customer Support and Fulfillment Departments, Miamisburg, Ohio (TA-W-82,571A) and LexisNexis/Matthew Bender, a Reed Elsevier, Inc. Subsidiary, Customer Support and Fulfillment Department, Albany, New York (TA-W-82,571B), who became totally or partially separated from employment on or after June 2, 2014 through May 8, 2015, and all workers in the group threatened with total or partial separation from employment on the date of certification through two years from the date of certification, are eligible to apply for adjustment assistance under Chapter 2 of Title II of the Trade Act of 1974, as amended.

Signed in Washington, DC, this 8th day of October, 2014.
Michael W. Jaffe,
Certifying Officer, Office of Trade Adjustment Assistance.

[FR Doc. 2014-27482 Filed 11-19-14; 8:45 am]

BILLING CODE P